INTERNATIONAL TRADE COMMISSION

[Investigation Nos. 701-TA-444-446 (Final) and 731-TA-1107-1109 (Final)]

Coated Free Sheet Paper From China, Indonesia, and Korea

Determinations

On the basis of the record ¹ developed in the subject investigations, the United States International Trade Commission (Commission) determines, pursuant to sections 705(b) and 735(b) of the Tariff Act of 1930 (19 U.S.C. § 1671d(b) and 1673d(b)) (the Act), that an industry in the United States is not materially injured or threatened with material injury, and the establishment of an industry in the United States is not materially retarded,² by reason of imports from China, Indonesia, and Korea of coated free sheet paper, provided for in subheadings 4810.13.19, 4810.13.20, 4810.13.50, 4810.13.70, 4810.14.19, 4810.14.20, 4810.14.50, 4810.14.70, 4810.19.19, and 4810.19.20 of the Harmonized Tariff Schedule of the United States, that have been found by the Department of Commerce (Commerce) to be subsidized by the Governments of China, Indonesia, and Korea and to be sold in the United States at less than fair value (LTFV).

¹ The record is defined in § 207.2(f) of the Commission's Rules of Practice and Procedure (19 CFR 207.2(f)).

² Commissioner Charlotte R. Lane dissenting.

Background

The Commission instituted these investigations effective October 31, 2006, following receipt of a petition filed with the Commission and Commerce by NewPage Corp., Dayton, OH. The final phase of the investigations was scheduled by the Commission following notification of preliminary determinations by Commerce that imports of coated free sheet paper from China, Indonesia, and Korea were being subsidized within the meaning of section 703(b) of the Act (19 U.S.C. 1671b(b)) and were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of July 5, 2007 (72 FR 36719). The hearing was held in Washington, DC, on October 18, 2007, and all persons who requested the opportunity were permitted to appear in person or by counsel.

The Commission transmitted its determinations in these investigations to the Secretary of Commerce on December 6, 2007. The views of the Commission are contained in USITC Publication 3965 (December 2007), entitled Coated Free Sheet Paper from China, Indonesia, and Korea: Investigation Nos. 701-TA-444-446 (Final) and 731-TA-1107-1109 (Final).

By order of the Commission.
Issued: December 7, 2007.
Marilyn R. Abbott,
Secretary to the Commission.

[FR Doc. E7-24103 Filed 12-12-07; 8:45 am]

BILLING CODE 7020-02-P